DEPARTMENT OF AGRICULTURE

Forest Service

Helena National Forest, Montana Travel Management Plan for the South Belts, Divide, and Blackfoot Project Areas

AGENCY: Forest Service, USDA.

ACTION: Notice of intent to prepare an environmental impact statement.

SUMMARY: This Notice of Intent (NOI) describes the Helena National Forest's proposal to revise the existing travel management on National Forest System lands in the South Belts, Divide, and Blackfoot project areas. The decisions to be made focus on what routes (both motorized and non-motorized) will be open or restricted depending on other resource needs. Signing or other physical structure will be used to implement the decision to reach chosen management objective. No route obliterations or relocations will be analyzed under this decision.

DATES: Comments concerning the scope of the analysis must be received by May 15, 2003. The draft environmental impact statement is expected late June 2003 and the final environmental impact statement is expected April 2004.

ADDRESSES: Send written comments to Kimberly Delgado-Public Affairs Officer c/o Helena National Forest, 2880 Skyway Drive, Helena, MT 59602.

For further information contact Chuck Neal-Forest Travel Planner or call at (406) 449-5201.

If you prefer, a “scoping” letter is available on the Web at r1_Helena_webmaster@fs.fed.us. You can submit comments at this location by typing on the subject line “Attention Public Affairs Officer.”

SUPPLEMENTARY INFORMATION:

Background

Forest wide travel management planning update originally was proposed in November 2000. Formal public involvement for that planning effort began with the publication of the NOI to prepare an Environmental Impact Statement in the Federal Register in December of 2000. A scoping letter describing that proposal was mailed to over 1,300 individuals and groups and public meetings were held in the communities of Lincoln, Townsend, and Helena in December 2000.

In response to that NOI and scoping effort many letters, postcards, e-mails, petitions, and maps were received commenting on the proposal. A private contractor conducted a content analysis to identify the issues and concerns and grouped them into main categories. This content analysis was completed in March 2001. These responses are retained in the record.

In 2001, a number of factors influenced the Helena National Forest to set aside the 2000 Forest wide travel planning effort. These factors included the requirements to complete a Forest Roads Analysis and the need to place priority on restoration and timber salvage in response to the severe fires of 2000.

An additional change that influenced the complexity of the 2000 Forest wide travel planning effort was the July 2001 off-highway vehicle regulations affecting National Forests and BLM lands in Montana, North Dakota, and portions of South Dakota. This direction applies to all government lands where a site-specific travel plan has not been implemented and restricts wheeled motorized travel to roads and trails where evidence of motorized use existed at that time.

The Forest Wide Travel Plan of 2000 was rescinded in March of 2003 due to elapsed time since the appearance of the NOI in the Federal Register and changed scope of the proposal.

Purpose and Need for Action

The purpose for initiating this proposal is to have a network of open roads and trails that addresses the need for a variety of vehicular and non-vehicular use while meeting goals, objectives, and standards for the multiple resources present within the project areas.

The Helena Forest Plan, signed in 1986, did not fully anticipate the growing popularity of ATV's and snowmobiles. Subsequently, off-road travel and user-created routes were increasing until the 2001 OHV decision prohibited cross-country motorized travel. The decision amended the Helena Forest Plan to eliminate this activity and further directed the Forests to prioritize areas for subsequent site-specific travel planning. Therefore, there is a need to update the Forest Travel Plan to address both motorized and non-motorized uses.

The Helena National Forest visitor map displays 23 different time blocks for restrictions. This makes understanding, implementing, and enforcing the travel plan complex both for the users and the Forest Service. Therefore, there is a need for a more clear, simplified travel plan that is easier to understand and enforce.

Proposed Action

The Helena National Forest proposes to implement a travel plan for the South Belts, Divide, and Blackfoot project areas that provides motorized and non-motorized opportunities for both roads and trails. Forest Plan goals, objectives, and standards for other resources were key to the development of this proposed action such as providing adequate seasonal habitat for wildlife and maintaining water quality.

The proposed action is summarized below. Site-specific, route-by-route detail for each project area is available upon request. The proposed action includes the following elements:

1. Motorized and non-motorized roads and trails are identified and include the following four route types:

* Roads open to vehicles that meet the requirements of state laws,

* Motorized trails open to vehicles 50 inches wide or less,

* Non-motorized trails, and

* Snowmobile routes.

2. Potential “connector” local road or trail locations are identified for possible future decisions.

3. Open and restricted routes and areas for snowmobiles are delineated. Big game winter range areas are not open to snowmobile use; however, designated snowmobile routes through winter range are identified.

4. Vehicle access within 300 feet of an open, designated road is allowed primarily to access dispersed camping sites and other uses as long it does not result in unacceptable resource damage such as rutting, crossing of wet meadows, or notable noxious weed spread.

To protect resources, the proposed action features the flexibility to restrict motorized use in the 300-foot zone in local situations if unacceptable resource damage occurs.

5. Stream fording by motorized vehicles is not allowed unless it is a part of a designated route (over snow vehicles are excluded from this feature as long as a stream is frozen).

6. Three categories of restrictions have been applied to identified routes. They are:

* October 15-December 1 (big game security),

* December 2-May 15 (winter range protection), and

* Yearlong.

Unique situations generating a need to temporarily modify the travel plan will use special orders or other methods on a case-by-case basis. These may include but are not limited to spring thaw, game retrieval, Grizzly Bear emergence, calving areas, firewood gathering, and non-ambulatory disabled access.

7. Off-route travel with respect to wheeled motorized vehicles is restricted per the 2001 State-wide OHV decision or as otherwise described in this proposed action.

8. Canada lynx conservation strategy has been applied resulting in no net increase in designated and/or groomed over-the-snow routes and snowmobile play areas in lynx habitat (generally higher elevation spruce/fir forest).

9. Access to private land holding within the National Forest Boundary was considered in developing the proposed action.

10. Routes with mixed traffic (street-legal and non-street-legal and licensed and unlicensed drivers) have been identified and typically are short segments. Some of these situations may be a mix of highway vehicles with ORVs or snowmobiles. These potential shared uses are highlighted to heighten the awareness to users of these routes. This shared use will be addressed as an administrative decision and is therefore not appealable within this process.

11. Routes that are open for motorized use, restricted yearlong, or restricted seasonally will be signed accordingly. Sites that have unique concerns or high resource values at risk, such as a bald eagle nest site, will be gated to increase closure effectiveness. Existing gates will continue to be used where appropriate.

12. To guide decisions about access to private lands that are located within the National Forest Boundary, the proposed action includes guidelines that consider private landowner needs as well as protection of resources on the National Forest System lands.

This proposal may not meet all Forest Plan standards such as wildlife security direction. These potential concerns will be fully analyzed in the EIS. If not fully compliant with the Forest Plan, appropriate actions will be taken; e.g. modify the alternative or propose site-specific Forest Plan amendments.

Project Area Descriptions

South Belts: The South Belts project area includes federal land administered by the USDA Forest Service from Mt. Boulder-Baldy near Confederate Gulch south to the Dry Creek watershed, west to the Forest boundary to other ownership and east to the Forest boundary to other ownership.

Divide: The Divide project area includes federal lands administered by the USDA Forest Service. It includes those National Forest system lands within the 10-Mile Creek drainage and the Little Blackfoot River drainage. Also included are those Federal lands that lie north of State Highway 12 to the Helena Ranger District-Lincoln Ranger District boundary near Nevada Mountain. The portion of the Helena Ranger District that lies within the Little Prickly Pear drainage is excluded from this analysis.

Blackfoot: The Blackfoot project area includes federal land administered by the USDA Forest Service. It includes the Helena National Forest Boundary north of the Scapegoat Wilderness, south to the Lincoln and Helena Ranger District boundary near Nevada Mountain, west to the Lolo National Forest boundary and east over the Continental Divide.

Responsible Official

The decisionmaker for these three project areas is the Forest Supervisor for the Helena National Forest.

Nature of Decision To Be Made

Incorporated in the following decisions is Forest Plan direction in providing a range of quality recreation, including motorized and non-motorized opportunities while implementing multiple Forest land and resource objectives and visitors' needs. The key decision points will include the following:

* Which roads, trails, and areas are appropriate for which types of public motorized and non-motorized use?

* Which roads, trails, and areas would have seasonal restrictions to protect wildlife or other resources?

* Whether or not a Forest Plan amendment(s) would be required?

The identified travel corridor connectors for local route systems will be evaluated and analyzed for future site-specific decisions.

Scoping Process

There are several options for you and/or your organization to make comments and participate in the process.

1. If you have substantive comments to the proposed action, please request a scoping package where you may fill out the attached Comment Sheet and return it to us. Your substantive comment must be specific to this proposed action to be helpful in this process. If possible, typed comments are most readily scanned for content identification purposes and comments can also be e-mailed, using the same general outline as the comment sheet, to: r1_helena_webmaster@fs.fed.us. In the subject line at this site, please include the following: Attention Public Affairs Officer.

2. Information about the Forest Travel Plan, including this scoping statement and the comment sheet, will be posted on the Helena National Forest Web site at http://www.fs.fed.us/r1/helena/projects. Information will be on the Web site by April 21, 2003.

3. There will be some public meetings in June and July of 2003. Please contact this office for specifics.

Your substantive response will be included in this analysis process. Your response should be specific and include reasons why you feel it should be considered. The key or significant responses will be used to formulate alternatives, prescribe mitigation measures, or be analyzed in environmental effects.

Early Notice of Importance of Public Participation in Subsequent Environmental Review: A draft environmental impact statement will be prepared for comment. The comment period on the draft environmental impact statement will begin in July of 2003 from the date the Environmental Protection Agency publishes the notice of availability in the Federal Register.

The Forest Service believes, at this early stage, it is important to give reviewers notice of several court rulings related to public participation in the environmental review process. First, reviewers of draft environmental impact statements must structure their participation in the environmental review of the proposal so that it is meaningful and alerts an agency to the reviewer's position and contentions. Vermont Yankee Nuclear Power Corp. v. NRDC, 435 U.S. 519, 553 (1978). Also, environmental objections that could be raised at the draft environmental impact statement stage but that are not raised until after completion of the final environmental impact statement may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the comment period so that substantive comments and objections are made available to the Forest Service at a time when it can meaningfully consider them and respond to them in the final environmental impact statement.

To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement. Reviewers may wish to refer to the Council on Environmental Quality Regulations for implementing the procedural provisions of the National Environmental Policy Act at 40 CFR 1503.3 in addressing these points.

Comments received, including the names and addresses of those who comment, will be considered part of the public record on this proposal and will be available for public inspection.

(Authority: 40 CFR 1501.7 and 1508.22; Forest Service Handbook 1909.15, Section 21)
Dated: April 14, 2003.
Allen L. Christophersen,
Deputy Forest Supervisor.

[FR Doc. 03-9571 Filed 4-17-03; 8:45 am]

BILLING CODE 3410-11-P